COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete a product and services from the Procurement List that were furnished by nonprofit agencies employing persons who are blind or have other severe disabilities.

DATES: Comments must be received on or before: August 4, 2019.

ADDRESSES: Committee for Purchase From People Who Are Blind or Severely Disabled, 1401 S Clark Street Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product and services are proposed for deletion from the Procurement List:

Product

NSN—Product Name:

8465-00-174-0808—Bag, Personal Effects

Mandatory Source of Supply: Mount Rogers Community Services Board, Wytheville, VA

Contracting Activity: DLA TROOP SUPPORT, PHILADELPHIA, PA

Services

Service Type: Administrative Services

Mandatory for: Department of Health and Human Services, Region 8: 1961 Stout Street, Denver, CO

Mandatory Source of Supply: Bayaud Industries, Inc., Denver, CO

Contracting Activity: HEALTH AND HUMAN SERVICES, DEPARTMENT OF, DEPT OF HHS

Service Type: Grounds Maintenance

Mandatory for: Department of Energy: Nevada Support Facility, North Las Vegas, NV

Mandatory Source of Supply: UNKNOWN

Contracting Activity: ENERGY, DEPARTMENT OF, HEADQUARTERS PROCUREMENT SERVICES

Service Type: Janitorial/Custodial

Mandatory for: Walnut Creek National Wildlife Refuge, Prairie City, IA

Mandatory Source of Supply: Progress Industries—Deleted, Newton, IA

Service Type: Grounds Maintenance

Mandatory for: Bureau of Reclaimation: 6850 Studhorse Flat Road, New Melones Lake Visitors Center, Sonora, CA

Service Type: Laundry Service

Mandatory for: Billings Fire Cache: 551 Northview Drive, Billings, MT

Mandatory Source of Supply: Community Option Resource Enterprises, Inc. (COR Enterprises), Billings, MT

Contracting Activity: OFFICE OF POLICY, MANAGEMENT, AND BUDGET, NBC ACQUISITION SERVICES DIVISION

Service Type: Full Food Service

Mandatory for: Fort Drum, 45 West Street, Fort Drum, NY

Mandatory Source of Supply: Jefferson County Chapter, NYSARC, Watertown, NY

Contracting Activity: DEPT OF THE ARMY, W40M RHCO-ATLANTIC USAHCA

Patricia Briscoe,
Deputy Director, Business Operations (Pricing and Information Management).

[FR Doc. 2019-14367 Filed 7-3-19; 8:45 am]

BILLING CODE 6353-01-P